DEPARTMENT OF THE INTERIOR

National Park Service

Notice of Inventory Completion for Native American Human Remains and Associated Funerary Objects in the Possession of the Milwaukee Public Museum, Milwaukee, WI

AGENCY: National Park Service, Interior.

ACTION: Notice.

Notice is hereby given in accordance with provisions of the Native American Graves Protection and Repatriation Act (NAGPRA), 43 CFR 10.9, of the completion of an inventory of human remains and associated funerary objects in the possession of the Milwaukee Public Museum, Milwaukee, WI.

This notice is published as part of the National Park Service's administrative responsibilities under NAGPRA, 43 CFR 10.2 (c). The determinations within this notice are the sole responsibility of the museum, institution, or Federal agency that has control of these Native American human remains and associated funerary objects. The National Park Service is not responsible for the determinations within this notice.

A detailed assessment of the human remains was made by Milwaukee Public Museum professional staff and contract specialists in physical anthropology in consultation with representatives of the Seneca Nation of New York and the Haudenosaunee Standing Committee on Burial Rules and Regulations.

At an unknown date, human remains representing one individual were removed from the Reed Site, Richmond, Ontario County, NY, by A. H. Dewey of Rochester, NY. Mr. Dewey donated the remains to the Milwaukee Public Museum in 1923. No known individual was identified. No associated funerary objects are present.

The remains were reportedly removed from a refuse pit at the Reed Site. Historical evidence identifies the Reed Site as a Seneca settlement, occupied circa A.D. 1000-1500.

Based on dental traits and site associations, these human remains are identified as Native American. Historical documentation and consultation evidence provided by representatives of the Seneca Nation of New York and the Haudenosaunee Standing Committee on Burial Rules and Regulations have identified the Reed Site as part of the Seneca's traditional territory.

Based on the above-mentioned information, officials of the Milwaukee Public Museum have determined that, pursuant to 43 CFR 10.2 (d)(1), the human remains listed above represent the physical remains of one individual of Native American ancestry. Officials of the Milwaukee Public Museum also have determined that, pursuant to 43 CFR 10.2 (e), there is a relationship of shared group identity that can be reasonably traced between these Native American human remains and the Seneca Nation of New York and the Seneca-Cayuga Tribe of Oklahoma.

This notice has been sent to officials of the Seneca Nation of New York, the Haudenosaunee Standing Committee on Burial Rules and Regulations, and the Seneca-Cayuga Tribe of Oklahoma. Representatives of any other Indian tribe that believes itself to be culturally affiliated with these human remains should contact Dr. Alex Barker, Anthropology Section Head, Milwaukee Public Museum, 800 West Wells Street, Milwaukee, WI 53233, telephone (414) 278-2786, before March 23, 2001. Repatriation of the human remains to the Seneca Nation of New York and the Seneca-Cayuga Tribe of Oklahoma may begin after that date if no additional claimants come forward.

Dated: February 5, 2001.
John Robbins,
Assistant Director, Cultural Resources, Stewardship, and Partnerships.

[FR Doc. 01-4302 Filed 2-20-01; 8:45 am]

BILLING CODE 4310-70-F